DEPARTMENT OF ENERGY

Federal Energy Regulatory Commission

[Docket No. RP01-423-000]

Columbia Gas Transmission Corporation; Notice of Proposed Changes in FERC Gas Tariff

May 23, 2001.

Take notice that on May 18, 2001, Columbia Gas Transmission Corporation (Columbia) tendered for filing as part of its FERC Gas Tariff, Second Revised Volume No. 1, the following revised tariff sheets bearing a proposed effective date of June 15, 2001:

Eighth Revised Sheet No. 2

Second Revised Sheet No. 500B

Columbia states that it is submitting NTS Service Agreement No. 2001-05-10-0002, which is an agreement for firm transportation service to be provided by Columbia to DPL Energy (DPL Agreement). Service under the DPL Agreement is to commence on June 15, 2001 and continue for a twenty-year term, unless earlier terminated pursuant to the terms of the DPL Agreement. The DPL Agreement provides for summer only service—June 15, 2001, through September 30, 2001 for the first year, and May 1 through September 30th for subsequent years. The DPL Agreement also provides a pressure commitment. Columbia believes that the DPL Agreement is consistent with its tariff and its pro forma Rate Schedule NTS service agreement and therefore does not constitute a non-conforming service agreement within the meaning of Section 154.1(d) of the Commission Regulations. If the Commission determines that the DPL Agreement is non-conforming, Columbia requests that the Commission issue an order approving the DPL Agreement to be effective June 15, 2001.

Columbia states that copies of its filing and have been mailed to all firm customers, interruptible customers, and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See 18 CFR 385.2001(a)(1)(iii) and the instructions on the Commission's web site at http://www.ferc.fed.us/efi/doorbell.htm.

David P. Boergers,
Secretary.

[FR Doc. 01-13482 Filed 5-29-01; 8:45 am]

BILLING CODE 6717-01-M